ENVIRONMENTAL PROTECTION AGENCY

40 CFR Part 105

[Docket #W-01-01; FRL-7140-7]

RIN 2040-AD44

Recognition Awards Under the Clean Water Act

AGENCY: Environmental Protection Agency (EPA).

ACTION: Proposed rule.

SUMMARY: EPA is proposing a framework for making annual Clean Water Act (CWA) Recognition Awards, formerly known as Wastewater Management Excellence Awards. CWA section 501(e) authorizes the Administrator, on behalf of the U.S. Government, to recognize outstanding technological achievements or innovative processes, methods or devices in waste treatment and pollution abatement programs.

DATES: Written comments must be received by April 9, 2002.

ADDRESSES: Written comments should be mailed to the W-01-01 Proposed Rule CWA Recognition Awards Comment Clerk, Water Docket, MC-4101, Environmental Protection Agency, 1200 Pennsylvania Avenue, NW., Washington, DC 20460, or hand delivered to the Water Docket in Room EB 57, 401 M Street, SW., Washington, DC. Due to the uncertainty of mail delivery in the Washington DC area, in order to ensure that your comments are received, we suggest you mail in, and hand deliver or fax your comments to (202) 501-2396. A copy of supporting information for this rulemaking is available for public inspection under docket number W-01-01. For access to the docket materials, call (202) 260-3027, Monday through Friday, except Federal holidays between 9:00 a.m. and 3:30 p.m. (Eastern time) for an appointment. Please indicate that the docket to be accessed is for the February 8, 2002 Federal Register on the Clean Water Act Recognition Awards. As provided in 40 CFR part 2, a reasonable fee may be charged for copying services.

FOR FURTHER INFORMATION CONTACT: Maria E. Campbell, Municipal Support Division, Office of Wastewater Management (MC4204-M), U.S. Environmental Protection Agency, Ariel Rios Building, 1200 Pennsylvania Avenue, NW., Washington, DC 20460, (202) 564-0628, e-mail at campbell.maria@epa.gov.

SUPPLEMENTARY INFORMATION: This document proposes a framework for making annual Clean Water Act Recognition Awards, formerly known as Wastewater Management Excellence Awards. In the “Rules and Regulations” section of today's Federal Register, we are promulgating this framework as a direct final rule without prior proposal because we view this as a noncontroversial action and anticipate no adverse comment. We have explained our reasons for this action in the preamble to the direct final rule. If we receive no adverse comment, we will not take further action on this proposed rule. If we receive adverse comment, we will withdraw the direct final rule and it will not take effect. We would then address all public comments in a subsequent final rule based on this proposed rule. We will not institute a second comment period on this action. Any parties interested in commenting must do so at this time. For further information, please see the information provided in the direct final rule titled, Recognition Awards Under the Clean Water Act, that is located in the “Rules and Regulations” section of this Federal Register publication. For the various statutes and executive orders that require findings for rulemaking, EPA incorporates the findings from the direct final rule into this companion proposal for the purpose of providing public notice and opportunity for comment.

Dated: February 1, 2002.
Christine Todd Whitman,
Administrator.

[FR Doc. 02-3097 Filed 2-7-02; 8:45 am]

BILLING CODE 6560-50-P